FEDERAL FINANCIAL INSTITUTIONS EXAMINATION COUNCIL

[Docket No. AS25-03]

Appraisal Subcommittee; Notice of Meeting; Cancellation

AGENCY: Appraisal Subcommittee of the Federal Financial Institutions Examination Council.

ACTION: Notice of meeting; cancellation.

On March 5, 2025, the Appraisal Subcommittee published a notice in the Federal Register at 90 FR 11322 regarding a public meeting scheduled for March 12, 2025, at 10:30 a.m., in accordance with 12 U.S.C. 3333(b). This notice serves to announce the cancellation of that public meeting.

Loretta Schuster,
Management & Program Analyst.

[FR Doc. 2025-03838 Filed 3-10-25; 8:45 am]

BILLING CODE 6700-01-P